SMALL BUSINESS ADMINISTRATION

[License No. 05/05-0335]

Serra Capital (SBIC) III, L.P.; Notice Seeking Exemption Under the Small Business Investment Act, Conflicts of Interest

Notice is here given that Serra Capital (SBIC) III, L.P., 2021 South First Street, Suite 206, Champaign, IL 61821, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Serra Capital (SBIC) III, L.P. provides convertible debt financing to SERIONX, INC. 14301 N 87th Street, Suite 116, Scottsdale, Arizona 85260.

The financing is brought within the purview of § 107.730(a) of the Regulations because Serra Capital III, L.P. has previously invested $400,000 of convertible debt in SERIONX, INC. As this entity is considered an associate of Serra Capital (SBIC) III, L.P., this transaction Requires a prior SBA exemption.

Notice is hereby given that any interested person may submit written comments on the transaction, within fifteen days of the date of this publication, to the Associate Administrator for Investment, U.S. Small Business Administration, 409 Third Street SW, Washington, DC 20416.

A. Joseph Shepard,
Associate Administrator, Office of Investment and Innovation.

[FR Doc. 2019-12135 Filed 6-7-19; 8:45 am]

BILLING CODE 8025-01-P